ENVIRONMENTAL PROTECTION AGENCY

[EPA-OW-2011-0466; FRL-9609-3]

Notice of Availability of Draft Recreational Water Quality Criteria and Request for Scientific Views

AGENCY: Environmental Protection Agency (EPA).

ACTION: Notice.

SUMMARY: Pursuant to section 304(a) of the Clean Water Act (CWA), the Environmental Protection Agency (EPA) is announcing the availability of the draft document Recreational Water Quality Criteria (RWQC). The document contains the EPA's draft ambient water quality criteria recommendations for protecting human health in ambient waters that are designated for primary contact recreation. CWA Section 304(c) water quality criteria recommendations are intended as guidance to States and authorized Tribes in developing water quality standards. The draft RWQC document describes the relevant scientific findings, explains how these findings were used to derive criteria, and lists the water quality methods associated with the criteria.

The draft RWQC differs from the current 1986 RWQC in the following ways: the EPA introduces a new term, Statistical Threshold Value (STV), as a clarification and replacement for the term single sample maximum (SSM); there are no longer recommendations for different criteria values for beaches used with more or less frequency; the EPA introduces a rapid analytical technique for the detection of enterococci in recreational water; the EPA provides information on tools for assessing and managing recreational waters, such as predictive modeling, and for developing site-specific criteria.

The CWA, as amended by the Beaches Environmental Assessment and Coastal Health (BEACH) Act of 2000, requires the EPA to conduct studies associated with pathogens and human health under Section 104(v), and to publish new or revised criteria for pathogens and pathogen indicators based on those studies under Section 304(a)(9). The draft criteria announced today for scientific views are the draft new or revised criteria that EPA is required to publish under Section 304(a)(9) of the CWA, as amended by the BEACH Act.

DATES: Scientific views must be received on or before February 21, 2012. Comments postmarked after this date may not be considered.

ADDRESSES: Submit your scientific views, identified by Docket ID No. EPA-HQ-OW-2011-0466, and obtain the document (EPA-HQ-OW-2011-0466-0002) by one of the following methods:

• www.regulations.gov: Follow the on-line instructions for submitting comments.

• Email: OW-Docket@epa.gov.

• Mail: U.S. Environmental Protection Agency; EPA Docket Center (EPA/DC) Water Docket, MC 28221T; 1200 Pennsylvania Avenue NW., Washington, DC 20460.

• Hand Delivery: EPA Docket Center, 1301 Constitution Ave. NW., EPA West, Room 3334, Washington, DC. Such deliveries are only accepted during the Docket's normal hours of operation, and special arrangements should be made for deliveries of boxed information.

Instructions: Direct your comments to Docket ID No. EPA-HQ-OW-2011-0466. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Office of Water Docket/EPA/DC, 1301 Constitution Ave. NW., EPA West, Room 3334, Washington, DC. This Docket Facility is open from 8:30 a.m. until 4:30 p.m., EST, Monday through Friday, excluding legal holidays. The telephone number for the Public Reading Room is (202) 566-1744, and the telephone number for the Office of Water Docket is (202) 566-2426.

FOR FURTHER INFORMATION CONTACT: For questions concerning the science supporting this criteria, contact Sharon Nappier, Health and Ecological Criteria Division (4304T), nappier.sharon@epa.gov, U.S. EPA, 1200 Pennsylvania Ave. NW., Washington, DC 20460; (202) 566-0740. For questions concerning the use of EPA's criteria recommendations, contact Tracy Bone, Standards and Health Protection Division (4305T), bone.tracy@epa.gov, U.S. EPA, 1200 Pennsylvania Ave. NW., Washington, DC 20460; (202) 564-5257.

SUPPLEMENTARY INFORMATION:

I. What are Section 304(a) water quality criteria?

Section 304(a) water quality criteria are recommendations developed by EPA under authority of section 304(a) of the Clean Water Act based on the latest scientific information on the relationship that the effect of a constituent concentration has on particular aquatic species and/or human health.

Section 304(a)(1) of the Clean Water Act requires the EPA to develop and publish and, from time to time, revise, criteria for water quality accurately reflecting the latest scientific knowledge. Water quality criteria developed under section 304(a) are based solely on data and scientific judgments on the relationship between pollutant concentrations and environmental and human health effects. Section 304(a) criteria do not reflect consideration of economic impacts or the technological feasibility of meeting pollutant concentrations in ambient water.

Section 304(a) criteria provide guidance to States and authorized Tribes in adopting water quality standards that ultimately provide a basis for controlling discharges or releases of pollutants. The criteria also provide guidance to the EPA when promulgating federal regulations under section 303(c) when such action is necessary. Under the CWA and its implementing regulations, States and authorized Tribes are to adopt water quality criteria to protect designated uses (e.g., aquatic life, recreational use). The EPA's water quality criteria recommendations are not regulations. Thus, the EPA's recommended criteria do not constitute legally binding requirements. States and authorized Tribes may adopt other scientifically defensible water quality criteria that differ from these recommendations. When adopting new or revised water quality standards, the States and authorized Tribes must adopt criteria that are scientifically defensible and protective of the designated uses of the bodies of water. States have the flexibility to do this by adopting criteria based on (1) EPA's recommended criteria, (2) EPA's criteria modified to reflect site-specific conditions, or (3) other scientifically defensible methods.

II. What are the recreational water quality criteria recommendations?

The EPA is today publishing the draft Recreational Water Quality Criteria (EPA-OW-2011-0466-0002) recommendations for protecting human health. The EPA evaluated the available data and determined that the designated use of primary contact recreation would be protected if the following criteria were adopted into water quality standards:

(a) Fresh Water Criteria

Magnitude: Culturable E. coli at a geometric mean (GM) of 126 colony forming units (cfu) per 100 milliliters (mL) and a statistical threshold value (STV) of 235 cfu per 100 mL measured using EPA Method 1603, or any other equivalent method that measures culturable E. coli; culturable enterococci at a GM of 33 cfu per 100 mL and an STV of 61 cfu per 100 mL measured using EPA Method 1600, or any other equivalent method that measures culturable enterococci; or both of the above criteria.

Duration: For calculating the GM and associated STV, EPA recommends a duration between 30 days and 90 days. The duration for calculating the GM and associated STV should not exceed 90 days. The duration is a component of a water quality criterion, and as such, would need to be explicitly included in the State's WQS. The recreational season may vary by location depending on the length of the beach season. Sampling of waterbodies should be representative of meteorological conditions (e.g., wet and dry weather) for the recreational season.

Frequency: EPA recommends a frequency of zero exceedances of the GM and ≤ 25 percent exceedance of the STV, during the recreation duration specified. The frequency of exceedance is a component of a water quality criterion, and as such, would need to be explicitly included in State's water quality standard (WQS).

(b) Marine Criteria

Magnitude: Culturable enterococci at a GM of 35 cfu per 100 mL and an STV of 104 cfu per 100 mL measured using EPA Method 1600, or any other equivalent method that measures culturable enterococci.

Duration: For calculating the GM and associated STV, EPA recommends a duration between 30 days and 90 days. The duration for calculating the GM and associated STV should not exceed 90 days. The duration is a component of a water quality criterion, and as such, would need to be explicitly included in the State's WQS. The recreational season may vary by location depending on the length of the beach season. Sampling of waterbodies should be representative of meteorological conditions (e.g., wet and dry weather) for the recreational season.

Frequency: EPA recommends a frequency of zero exceedances of the GM and ≤ 25 percent exceedance of the STV, during the recreation duration specified. The frequency of exceedance is a component of a water quality criterion, and as such, would need to be explicitly included in State's WQS.

EPA has also developed a quantitative polymerase chain reaction (qPCR) method to detect and quantify enterococci more rapidly than the culture method. For the purposes of beach monitoring, alternative site-specific criteria could be adopted into State standards measured by EPA's Enterococcus qPCR method A based on a site-specific performance characterization. For States interested in adopting a value for enterococci using EPA's Enterococcus qPCR method A into their WQS, EPA recommends a GM criterion of 475 calibrator cell equivalent (CCE) per 100 mL and an STV criterion of 1,000 CCE per 100 mL in freshwaters and marine waters based on its epidemiological study data.

Dated: December 15, 2011.
Nancy K. Stoner,
Acting Assistant Administrator for Water.

[FR Doc. 2011-32651 Filed 12-20-11; 8:45 am]

BILLING CODE 6560-50-P